ENVIRONMENTAL PROTECTION AGENCY

40 CFR Part 52

[EPA-R05-OAR-2010-0545; FRL-9295-1]

Approval and Promulgation of Air Quality Implementation Plans; Indiana; Stage I Vapor Recovery Rule

AGENCY: Environmental Protection Agency (EPA).

ACTION: Direct final rule.

SUMMARY: EPA is approving into the Indiana State Implementation Plan (SIP), amendments to the stage I vapor recovery rule and administrative changes to stage II vapor recovery rule submitted by the Indiana Department of Environmental Management on June 11, 2010. These rule revisions made volatile organic compounds (VOC) emission control requirements for filling at gasoline dispensing facilities more stringent by applying them statewide, making the rule applicable to smaller tanks and revising the requirements for newer submerged fill pipes. These new State requirements update the SIP consistent with new Federal requirements from January 10, 2008 area source National Emissions Standards for Hazardous Air Pollutants (NESHAPs) for gasoline dispensing facilities. The revisions also delete references to compliance dates which have passed. The rules are approvable because they are consistent with the Clean Air Act (Act) and EPA regulations, and should result in additional emission reductions of VOCs throughout Indiana.

DATES: This direct final rule will be effective June 13, 2011, unless EPA receives adverse comments by May 16, 2011. If adverse comments are received, EPA will publish a timely withdrawal of the direct final rule in the Federal Register informing the public that the rule will not take effect.

ADDRESSES: Submit your comments, identified by Docket ID No. EPA-R05-OAR-2010-0545, by one of the following methods:

1. http://www.regulations.gov: Follow the on-line instructions for submitting comments.

2. E-mail: aburano.douglas@epa.gov.

3. Fax: (312) 408-2279.

4. Mail: Doug Aburano, Chief, Control Strategies Section, Air Programs Branch (AR-18J), U.S. Environmental Protection Agency, 77 West Jackson Boulevard, Chicago, Illinois 60604.

5. Hand Delivery: Doug Aburano, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2010-0545. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding Federal holidays. We recommend that you telephone Carolyn Persoon, Environmental Engineer, at (312) 353-8290, before visiting the Region 5 office.

FOR FURTHER INFORMATION CONTACT: Carolyn Persoon, Environmental Engineer, Control Strategies Section, Air Programs Branch (AR-18J), Environmental Protection Agency, Region 5, 77 West Jackson Boulevard, Chicago, Illinois 60604, (312) 353-8290, persoon.carolyn@epa.gov.

SUPPLEMENTARY INFORMATION: Throughout this document whenever “we,” “us,” or “our” is used, we mean EPA. This supplementary information section is arranged as follows:

I. What should I consider as I prepare my comments for EPA?

II. What is the background of the rule revisions?

III. What is EPA's analysis of the rule revisions?

IV. What action is EPA taking?

V. Statutory and Executive Order Reviews

I. What should I consider as I prepare my comments for EPA?

1. Identify the rulemaking by docket number and other identifying information (subject heading, Federal Register date and page number).

2. Follow directions—The EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What is the background of the rule revisions?

On January 10, 2008, EPA issued new, more stringent National Regulations for Gasoline Dispensing Facilities at 40 CFR part 63, subpart CCCCCC, (73 FR 1945), promulgated under section 112 of the Act. The gasoline dispensing standards in that rule apply nationwide to subject sources of hazardous air pollutants identified in 40 CFR 63.11111.

Indiana adopted new requirements to reflect the revised Federal regulations. These revisions: (1) Remove past compliance dates (326 IAC 8-1-3); (2) extend applicability of the rules to facilities statewide with a through-put of ten thousand (10,000) gallons per month or greater (326 IAC 8-4-1); and (3) add new requirements for filling gasoline storage tanks (326 IAC 8-4-6).

Indiana placed notices for public comment periods in the Indiana Register first on June 27, 2007 and the second notice on June 3, 2009. Indiana placed notices of public hearing dates in four newspapers on July 31, 2009. Indiana then held a public hearing on the proposed rule on September 2, 2009. There were no comments. The proposed rule was published in the Indiana Register on September 23, 2009, and no comments were received. A second notice of hearing was published in the Indiana Register on September 23, 2009 and a second public hearing was held on November 4, 2009. No comments were received. The final rule was adopted on November 4, 2009.

III. What is EPA's analysis of the rule revisions?

The revisions to Indiana's stage I vapor recovery rule, 326 IAC 8-1-3, 326 IAC 8-4-1 and 326 IAC 8-4-6, are approvable because they are consistent with the Act and applicable EPA regulations, and should result in additional VOC emission reductions. A description of the rule revisions follows:

326 IAC 8-1-3 Compliance schedules—This section deletes subsections 8-1-3 (d) and (e), which had allowed for compliance date extensions, because the applicable dates have long past.

326 IAC 8-4-1 Applicability—This section expands the applicability to all gasoline storage tanks at a gasoline dispensing facility with a through-put of ten thousand (10,000) gallons per month or greater.

326 IAC 8-4-6 Gasoline dispensing facilities—Section 6(a)(8) decreases the tank cut off size required to meet the regulatory standards for fueling from two thousand, one hundred seventy six (2,176) to nine hundred forty-six (946) liters (575 to 250 gallons). Section 6(b)(1) revises the requirements for submerged fill pipes for existing and newer tanks. Fill pipes installed before November 9, 2006 must be no more than twelve (12) inches from the bottom of the tank, and those installed after November 9, 2006 must be no more than six (6) inches from the bottom of the tank.

The expanded applicability and more stringent submerged fill requirements will result in additional VOC reductions.

IV. What action is EPA taking?

EPA is approving into the Indiana SIP revisions the entire stage I and stage II vapor recovery rule. Although the only amendments to the rule affected are sections 326 IAC 8-1-3, 326 IAC 8-4-1, and 326 IAC 8-4-6, concerning stage I vapor recovery, and administrative changes to stage II vapor recovery rule, we are approving the entire rule for clarity and consistency.

We are publishing this action without prior proposal because we view this as a noncontroversial amendment and anticipate no adverse comments. However, in the proposed rules section of this Federal Register publication, we are publishing a separate document that will serve as the proposal to approve the State plan if relevant adverse written comments are filed. This rule will be effective June 13, 2011 without further notice unless we receive relevant adverse written comments by May 16, 2011. If we receive such comments, we will withdraw this action before the effective date by publishing a subsequent document that will withdraw the final action. All public comments received will then be addressed in a subsequent final rule based on the proposed action. The EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective June 13, 2011.

V. Statutory and Executive Order Reviews

Under the Act, the Administrator is required to approve a SIP submission that complies with the provisions of the Act and applicable Federal regulations. 42 U.S.C. 7410(k); 40 CFR 52.02(a). Thus, in reviewing SIP submissions, EPA's role is to approve State choices, provided that they meet the criteria of the Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Act, petitions for judicial review of this action must be filed in the United States Court of Appeals for the appropriate circuit by June 13, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Reporting and recordkeeping requirements, Volatile organic compounds.

Dated: March 30, 2011.
Susan Hedman,
Regional Administrator, Region 5.

40 CFR part 52 is amended as follows:

PART 52—[AMENDED]

1. The authority citation for part 52 continues to read as follows:

Authority: 42 U.S.C. 7401 et seq.

Subpart P—Indiana

2. In § 52.770 the table in paragraph (c) is amended by revising the entries under Article 8 for “8-1 General Provisions” and “8-4 Petroleum Sources” to read as follows:

§ 52.770 Identification of plan.

* * * * *

(c) * * *

EPA-Approved Indiana Regulations
Indiana citation | Subject | Indiana effective date | EPA approval date | Notes
* * * * * * *
Article 8. Volatile Organic Compound Rules
8-1 | General Provisions
8-1-0.5 | Definitions | 10/18/1995 | 11/3/1999, 64 FR 59642
8-1-1 | Applicability | 6/5/1991 | 3/6/1992, 57 FR 8082
8-1-2 | Compliance methods | 12/15/2002 | 5/5/2003, 68 FR 23604
8-1-3 | Compliance schedules | 5/15/2010 | 4/14/2011, [Insert page number where the document begins]
8-1-4 | Testing procedures | 7/15/2001 | 9/11/2002, 67 FR 57515
8-1-5 | Petition for site-specific reasonably available control technology (RACT) plan | 11/10/1988 | 9/6/1990, 55 FR 36635
8-1-6 | New facilities; general reduction requirements | 6/24/2006 | 6/13/2007, 72 FR 32531
8-1-7 | Military specifications |  | 10/27/1982, 47 FR 20586
8-1-9 | General record keeping and reporting requirements | 5/22/1997 | 6/29/1998, 63 FR 35141
8-1-10 | Compliance certification, record keeping, and reporting requirements for certain coating facilities using compliant coatings | 5/22/1997 | 6/29/1998, 63 FR 35141
8-1-11 | Compliance certification, record keeping, and reporting requirements for certain coating facilities using daily-weighted averaging | 5/22/1997 | 6/29/1998, 63 FR 35141
8-1-12 | Compliance certification, record keeping, and reporting requirements for certain coating facilities using control devices | 5/22/1997 | 6/29/1998, 63 FR 35141
* * * * * * *
8-4 | Petroleum Sources.
8-4-1 | Applicability | 5/15/2010 | 4/14/2011, [Insert page number where the document begins]
8-4-2 | Petroleum refineries |  | 1/18/1983, 48 FR 2127
8-4-3 | Petroleum liquid storage facilities |  | 2/10/1986, 51 FR 4912
8-4-4 | Bulk gasoline terminals |  | 1/18/1983, 48 FR 2127
8-4-5 | Bulk gasoline plants |  | 1/18/1983, 48 FR 2127
8-4-6 | Gasoline dispensing facilities | 5/15/2010 | 4/14/2011, [Insert page number where the document begins]
8-4-7 | Gasoline transports | 11/5/1999 | 5/31/2002, 67 FR 38006
8-4-8 | Leaks from petroleum refineries; monitoring; reports | 6/5/1991 | 3/6/1992, 57 FR 8082
8-4-9 | Leaks from transports and vapor collection systems; records | 11/5/1999 | 5/31/2002, 67 FR 38006
* * * * * * *

* * * * *

[FR Doc. 2011-8874 Filed 4-13-11; 8:45 am]

BILLING CODE 6560-50-P